RAILROAD RETIREMENT BOARD

Sunshine Act Meeting; Notice of Public Meeting

Notice is hereby given that the Railroad Retirement Board will hold a meeting on October 6, 2011, 10 a.m. at the Board's meeting room on the 8th floor of its headquarters building, 844 North Rush Street, Chicago, Illinois, 60611. The agenda for this meeting follows:

Portion Open to the Public: (1) Executive Committee Reports.

Portion Closed to the Public: (A) Vacant General Counsel Position.

The person to contact for more information is Martha P. Rico, Secretary to the Board, Phone No. 312-751-4920.

Dated: September 21, 2011.
Martha P. Rico,
Secretary to the Board.

[FR Doc. 2011-24770 Filed 9-22-11; 11:15 am]

BILLING CODE 7905-01-P